DEPARTMENT OF THE INTERIOR

Bureau of Ocean Energy Management [Docket No. BOEM-2023-0065]

Notice of Availability of a Final Environmental Assessment for Commercial Wind Lease Issuance on the Pacific Outer Continental Shelf, Oregon

AGENCY: Bureau of Ocean Energy Management, Interior.

ACTION: Notice of availability.

SUMMARY: The Bureau of Ocean Energy Management (BOEM) announces the availability of an environmental assessment (EA) and its finding that possible wind energy-related leasing, right-of-way and right of use issuance, site assessment, and site characterization activities on the U.S. Pacific Outer Continental Shelf (OCS) offshore Oregon (the Proposed Action) will not significantly impact the human environment. The EA will inform BOEM's decision whether to issue wind energy leases on the OCS offshore the U.S. Pacific, Oregon.

ADDRESSES: The final EA and associated information are available on BOEM's website at: www.boem.gov/oregonea.

FOR FURTHER INFORMATION CONTACT: Lisa Gilbane, Chief, Environmental Analysis Section, Bureau of Ocean Energy Management, Camarillo, California Office, 760 Paseo Camarillo, Suite 102, Camarillo, CA 93010, (805) 384-6387 or lisa.gilbane@boem.gov.

SUPPLEMENTARY INFORMATION: The final EA analyzes the potential impacts from the Proposed Action, which involves BOEM issuing up to two commercial wind energy leases in the Oregon Wind Energy Areas (WEAs) and granting associated rights-of-way (ROWs) and rights-of-use and easement (RUEs) offshore the State of Oregon. A BOEM-issued lease provides lessees the exclusive right to submit site assessment and construction and operations plans to BOEM for possible approval. The EA considers the reasonably foreseeable environmental consequences associated with site characterization activities (geophysical, geotechnical, archaeological, and biological surveys) and site assessment activities (including the installation and operation of meteorological buoys) which are the types of activities that foreseeably follow BOEM's issuance of the leases, ROWs, and RUEs. BOEM prepared an EA for this proposed action to inform its planning and decision-making (40 CFR 1501.5(b)).

Alternative: In addition to the Proposed Action, BOEM considered a No Action Alternative. Under the No Action Alternative, BOEM would not issue commercial wind energy leases, ROWs, or RUEs in the two Oregon WEAs. BOEM's preferred alternative is the Proposed Action.

Finding of no significant impact: After carefully considering the alternatives and comments from the public and cooperating and consulting agencies on the draft EA, BOEM finds that approval of two commercial wind energy leases in the Oregon WEAs, and ROWs and RUEs associated with the lease areas, would not significantly impact the environment.

Availability of the final EA: The final EA and associated information are available on BOEM's website www.boem.gov/oregonea.

Authority: 42 U.S.C. 4231 et seq. (National Environmental Policy Act, as amended) and 40 CFR 1506.6.

Douglas Boren,
Pacific Regional Director, Bureau of Ocean Energy Management.

[FR Doc. 2024-18093 Filed 8-13-24; 8:45 am]

BILLING CODE 4340-98-P